DEPARTMENT OF ENERGY

Federal Energy Regulatory Commission

Combined Notice of Filings

Take notice that the Commission has received the following Natural Gas Pipeline Rate and Refund Report filings:

Filings Instituting Proceedings

Docket Numbers: RP16-959-000.

Applicants: Alliance Pipeline L.P.

Description: Section 4(d) rate filing per 154.204: June 2016 Open Season to be effective 6/1/2016.

Filed Date: 5/19/16.

Accession Number: 20160519-5142.

Comments Due: 5 p.m. ET 5/31/16.

Docket Numbers: RP16-970-000.

Applicants: Tennessee Gas Pipeline Company, L.L.C.

Description: Section 4(d) rate filing per 154.204: PCB Adjustment Period Extension through 2018 to be effective 7/1/2016.

Filed Date: 5/26/16.

Accession Number: 20160526-5082.

Comments Due: 5 p.m. ET 6/7/16.

Docket Numbers: RP16-972-000.

Applicants: Rager Mountain Storage Company LLC.

Description: Section 4(d) rate filing per 154.204: Assignment Update to be effective 6/26/2016.

Filed Date: 5/26/16.

Accession Number: 20160526-5100.

Comments Due: 5 p.m. ET 6/7/16.

Docket Numbers: RP16-973-000.

Applicants: Elba Express Company, L.L.C.

Description: Annual Cashout True-Up of Elba Express Company, L.L.C. under RP16-973.

Filed Date: 5/26/16.

Accession Number: 20160526-5166.

Comments Due: 5 p.m. ET 6/7/16.

Docket Numbers: RP16-974-000.

Applicants: El Paso Natural Gas Company, L.L.C.

Description: Section 4(d) rate filing per 154.601: Negotiated Rate Agreement Update (APS June 2016) to be effective 6/1/2016.

Filed Date: 5/26/16.

Accession Number: 20160526-5267.

Comments Due: 5 p.m. ET 6/7/16.

Docket Numbers: RP16-975-000.

Applicants: Venice Gathering System, L.L.C.

Description: Section 4(d) rate filing per 154.312: Filing to Change Rates to be effective 7/1/2016.

Filed Date: 5/26/16.

Accession Number: 20160526-5274.

Comments Due: 5 p.m. ET 6/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2016.
Nathaniel J. Davis, Sr.,
Deputy Secretary.

[FR Doc. 2016-13446 Filed 6-7-16; 8:45 am]

BILLING CODE 6717-01-P